DEPARTMENT OF HOMELAND SECURITY

Federal Emergency Management Agency

[Docket ID FEMA-2012-0022]

Assistance to Firefighters Grant Program

AGENCY: Federal Emergency Management Agency, DHS.

ACTION: Notice; correction.

On June 22, 2012, the Federal Emergency Management Agency (FEMA) published a notice in the Federal Register at 77 FR 37687 notifying the public of the application process for grants and the criteria for awarding grants in the fiscal year 2012 Assistance to Firefighters Grant Program year. That notice included an incorrect docket ID of FEMA-2012-0028. The correct Docket ID is FEMA-2012-0022. Specific information about the submission of grant applications can be found in the “FY 2012 Assistance to Firefighters Grant (AFG) Guidance and Application Kit,” which is available for download at www.fema.gov/firegrants and at www.regulations.gov under Docket ID FEMA-2012-0022.

W. Craig Fugate,
Administrator, Federal Emergency Management Agency.

[FR Doc. 2012-16347 Filed 7-3-12; 8:45 am]

BILLING CODE 9111-64-P